SECURITIES AND EXCHANGE COMMISSION

[Release No. 34-47383; File No. SR-Phlx-2002-79]

Self-Regulatory Organizations; Order Granting Approval of Proposed Rule Change by the Philadelphia Stock Exchange, Inc., Relating to the Application Fee and the ETP Application Fee

February 20, 2003.

On December 17, 2002, the Philadelphia Stock Exchange, Inc. (“Phlx”), filed with the Securities and Exchange Commission (“Commission”), pursuant to section 19(b)(1) of the Securities Exchange Act of 1934 (“Act”),¹ and rule 19b-4 thereunder,² a proposed rule change relating to its Application and ETP Application Fees. Notice of the proposed rule change was published for comment in the Federal Register on January 17, 2003.³ No comments were received on the proposed rule change.

¹ 15 U.S.C. 78s(b)(1).

² 17 CFR 240.19b-4.

³ See Securities Exchange Act Release No. 47148 (January 9, 2003), 68 FR 2614.

In order to generate additional revenue, the Exchange has proposed to amend its schedule of dues, fees and charges to increase its current Application Fee from $200 to $350. The Exchange also proposes to delete a separate reference to the ETP Application Fee in order to prevent confusion.

The Commission finds that the proposed rule change is consistent with the requirements of the Act and the rules and regulations thereunder applicable to a national securities exchange.⁴ Specifically, the Commission believes that the proposal is consistent with section 6(b)(4) of the Act,⁵ in that it equitably allocates reasonable dues, fees, and other charges among Exchange members and issuers and other persons using its facilities, and that it fairly allocates costs associated with application processing to those individuals and firms making such applications.

⁴ In approving this proposal, the Commission has considered the proposed rule's impact on efficiency, competition, and capital formation. 15 U.S.C. 78(c)(f).

⁵ 15 U.S.C. 78f(b)(4).

It is therefore ordered, pursuant to section 19(b)(2) of the Act,⁶ that the proposed rule change (File No. SR-Phlx-2002-79) be, and it hereby is, approved.

⁶ 15 U.S.C. 78s(b)(2).

For the Commission, by the Division of Market Regulation, pursuant to delegated authority.⁷
⁷ 17 CFR 200.30-3(a)(12).
Margaret H. McFarland,
Deputy Secretary.

[FR Doc. 03-4504 Filed 2-25-03; 8:45 am]

BILLING CODE 8010-01-P